DEPARTMENT OF VETERANS AFFAIRS

[OMB Control No. 2900-0099]

Agency Information Collection Activities Under OMB Review

AGENCY: Veterans Benefits Administration, Department of Veterans Affairs

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before September 4, 2001.

FOR FURTHER INFORMATION OR A COPY OF THE SUBMISSION CONTACT: Denise McLamb, Information Management Service (045A4), Department of Veterans Affairs, 810 Vermont Avenue, NW., Washington, DC 20420, (202) 273-8030, FAX (202) 273-5981 or e-mail: denise.mclamb@mail.va.gov. Please refer to “OMB Control No. 2900-0099.”

SUPPLEMENTAL INFORMATION: Title: Request for Change of Program or Place of Training, Survivors' and Dependents' Educational Assistance, (Under Provisions of Chapter 35, Title 38, U.S.C.), VA Form 22-5495.

OMB Control Number: 2900-0099.

Type of Review: Revision of a currently approved collection.

Abstract: Spouses, surviving spouses, or children of veterans who are eligible for Dependent's Educational Assistance, complete VA Form 22-5495 to change their program of education and/or place of training. VA uses the information to determine if the new program selected is suitable to their abilities, aptitudes, and interests and to verify that the new place of training is approved for benefits.

An agency may not conduct or sponsor, and a person is not required to respond to a collection of information unless it displays a currently valid OMB control number. The Federal Register document with a 60-day comment period soliciting comments on this collection of information was published on April 24, 2001 at page 20721.

Affected Public: Individuals or households.

Estimated Annual Burden: 3,000 hours.

Estimated Average Burden Per Respondent: 15 minutes.

Frequency of Response: On occasion.

Estimated Number of Respondents: 12,000.

Send comments and recommendations concerning any aspect of the information collection to VA's OMB Desk Officer, OMB Human Resources and Housing Branch, New Executive Office Building, Room 10235, Washington, DC 20503 (202) 395-7316. Please refer to “OMB Control No. 2900-0099” in any correspondence.

Dated: July 10, 2001.
By direction of the Secretary.
Donald L. Neilson,
Director, Information Management Service.

[FR Doc. 01-19293 Filed 8-1-01; 8:45 am]

BILLING CODE 8320-01-P